DEPARTMENT OF TRANSPORTATION

Office of the Secretary

[Docket No. DOT-OST-2025-1491]

United States Department of Transportation Advisory Board; Public Meeting

AGENCY: Office of the Secretary (OST), Department of Transportation (DOT).

ACTION: Notice of public meeting.

SUMMARY: The Office of the Secretary of Transportation (OST) announces a public meeting of the United States Department of Transportation Advisory Board (U.S. DOT Advisory Board) on Wednesday, October 22, 2025. This notice announces the date, time, and location of the meeting, which will be open to the public virtually. The purpose of the U.S. DOT Advisory Board is to provide strategic vision and high-level guidance to modernize and enhance the United States transportation systems.

DATES: This meeting will be held on Wednesday, October 22, 2025, beginning at 2:00 p.m. Eastern Time (ET). The exact start time is subject to change; please monitor www.transportation.gov/USDOTAdvisoryBoard for the most up-to-date information and to access the link for live viewing of the meeting.

ADDRESSES: The U.S. DOT Advisory Board members will be meeting in-person at U.S. DOT Headquarters in Washington, DC. The public may attend the meeting virtually, with information available on the U.S. DOT Advisory Board website (www.transportation.gov/USDOTAdvisoryBoard) in advance of the meeting date.

FOR FURTHER INFORMATION CONTACT: U.S. DOT Advisory Board Designated Federal Officer, c/o Juli Huynh—Director, Office of Policy Coordination and Development, Office of the Secretary, DOTAdvisoryBoard@dot.gov or (202) 366-2278.

SUPPLEMENTARY INFORMATION:

I. Background

The U.S. Secretary of Transportation (Secretary) established the U.S. DOT Advisory Board as a Federal Advisory Committee in accordance with the Federal Advisory Committee Act (Pub. L. 92-463, 5 U.S.C. Ch. 10) to provide strategic vision and high-level guidance to modernize and enhance the United States transportation systems.

The U.S. DOT Advisory Board will be dedicated to: (1) developing strategic recommendations for infrastructure modernization and expansion; (2) identifying key investment opportunities in transportation technology and innovation; (3) providing insights into regulatory and policy improvements to enhance efficiency and reduce bureaucratic obstacles; and (4) advising on public-private partnerships to maximize funding and impact.

II. Agenda

At the meeting, the agenda will cover the following topics:

1. Call to Order, Official Statement of the Designated Federal Officer, Meeting Logistics

2. Opening Remarks

3. Committee Business

4. Recap of Meeting Progress and Review of Next Steps

III. Public Participation

The meeting will be open to the public via livestream. Members of the public who wish to observe the virtual meeting can access the livestream accessible on the following website: www.transportation.gov/USDOTAdvisoryBoard.

Members of the public may also submit written materials, questions, and comments to the Committee in advance to the individual listed in the FOR FURTHER INFORMATION CONTACT section of this notice no later than Wednesday, October 15, 2025.

All advance submissions will be reviewed by the Designated Federal Officer. If approved, advance submissions shall be circulated to the U.S. DOT Advisory Board members for review prior to the meeting. All advance submissions will become part of the official record of the meeting.

Authority: The Committee is a discretionary Committee under the authority of the U.S. Department of Transportation (U.S. DOT), established in accordance with the provisions of the Federal Advisory Committee Act (FACA), as amended, 5 U.S.C. Ch. 10.

Loren A. Smith, Jr.,
Deputy Assistant Secretary for Transportation Policy.

[FR Doc. 2025-19502 Filed 10-8-25; 8:45 am]

BILLING CODE 4910-9X-P